DEPARTMENT OF TRANSPORTATION

Federal Aviation Administration

14 CFR Part 91

[Docket No. FAA-2003-14449; Notice No. 03-03]

RIN 2120-AH78

Enhanced Flight Vision Systems

Correction

In proposed rule, document 03-3265 beginning on page 6802 in the issue of Monday, February 10, 2003 make the following corrections:

§ 91.175 [Corrected]

1. On page 6807, in § 91.175, in the third column, under the heading “EFVS Proposed Rule” in paragraph (c), in the second line, “paragraph (1)” should read “paragraph (l)”.

2. On the same page, in the same section, in the same column, under the same heading, in paragraph (e)(1), in the first line, the words “pilot operating” should be removed.

3. On the same page, in the same section, in the same column, under the same heading, in the same paragraph, in the second line “paragraph (c) or (1)” should read “paragraph (c) or (l)”.

4. On the same page, in the same section, in the same column, under the same heading, in paragraph (l), in the first line, the words “may land that approach” should be removed.

5. On the same page, in the same section, in the same column, under the same heading, in the same paragraph, in the fifth line, “at any airport at any airport” should read “at any airport”.

6. On page 6808, in the same section, in the third column, under the heading “EFVS Proposed Rule”, in paragraph (l)(7), in the third line, “his” should read “has”.

[FR Doc. C3-3265 Filed 2-28-03; 8:45 am]

BILLING CODE 1505-01-D